DEPARTMENT OF AGRICULTURE

Agricultural Marketing Service

[Doc. No. AMS-FGIS-20-0065]

United States Standards for Beans

AGENCY: Agricultural Marketing Service, USDA.

ACTION: Notice of final action.

SUMMARY: This action is being taken under the authority of the Agricultural Marketing Act of 1946, as amended (AMA). The United States Department of Agriculture's (USDA) Agricultural Marketing Service (AMS) is revising the method of interpretation for the determination of “sample grade criteria” in the Bean Inspection Handbook, pertaining to the class “Blackeye beans” in the U.S. Standards for Beans. Stakeholders in the dry bean processing/handling industry requested that AMS amend the definition of sample grade in the Blackeye bean inspection instructions by revising the unit of measurement for the factor “Insect Webbing or Filth” (IWOF) and removing “Clean-Cut Weevil-Bore” (CCWB) as a sample grade factor. As a result of this action Clean-Cut Weevil-Bore is considered a damage factor only.

DATES: Applicability date: July 1, 2021.

FOR FURTHER INFORMATION CONTACT: Loren Almond, USDA AMS; Telephone: (816) 702-3925; Email: Loren.L.Almond@usda.gov.

SUPPLEMENTARY INFORMATION: Under the authority of the AMA (7 U.S.C. 1621-1627), as amended, AMS establishes and maintains a variety of quality and grade standards for agricultural commodities that serve as a fundamental starting point to define commodity quality in the domestic and global marketplace.

Standards developed under the AMA include those for rice, whole dry peas, split peas, feed peas, lentils, and beans. The U.S. Standards for whole dry peas, split peas, feed peas, lentils and beans no longer appear in the Code of Federal Regulations, but are now maintained by USDA-AMS-Federal Grain Inspection Service (FGIS). The U.S. Standards for beans are voluntary and widely used in private contracts, government procurement, marketing communication, and for some commodities, consumer information.

The bean standards facilitate bean marketing and define U.S. bean quality in the domestic and global marketplace. The standards define commonly used industry terms; contain basic principles governing the application of standards, such as the type of sample used for a particular quality analysis; provide the basis of determination; and specify grades and grade requirements. Official procedures for determining grading factors are provided in the Bean Inspection Handbook. Together, the grading standards and testing procedures allow buyers and sellers to communicate quality requirements, compare bean quality using equivalent forms of measurement, and assist in price discovery.

AMS engages in outreach with stakeholders to ensure commodity standards maintain relevance to the modern market. Bean industry stakeholders include the US Dry Bean Council (USDBC), California Dry Bean Advisory Board, California Bean Shippers Association, and Cal Bean and Grain, among others.

The United States Standards for Beans and the official inspection procedures for beans in the Bean Inspection Handbook are available on the AMS public website. The United States Standards for Beans were last revised in 2017. Currently, sample grade tolerances for IWOF in all classes of beans are determined on a count basis of two or more beans in 1,000 grams. Also, CCWB is considered a sample grade and damage factor. This type of insect filth found in the Blackeye bean is not due to storage practices, but originates in the field, brought on by years of drought, and is the result of challenges associated with applying aerial pesticides. These elements have contributed to an increase of IWOF (beans and pieces of beans which contain webbing, refuse, excreta, dead insects, larvae, or eggs) in the Blackeye bean crops for years. With the current sample grade factor tolerance, difficulty in meeting contract specifications is problematic. Specifically, industry stakeholders asked AMS to revise the sample grade tolerance for IWOF and adjust CCWB to only be considered a damage factor, only in the class Blackeye beans.

Revision of Blackeye Bean Sample Grade Tolerances for Insect Webbing or Filth and Removal of Clean-Cut Weevil-Bore as a Sample Grade Factor

Stakeholders recommended AMS revise the Bean Inspection Handbook criteria for Blackeye bean sample grade tolerances of IWOF from counts to percentages, and change CCWB from a sample grade and damage factor to a damage factor only. AMS and stakeholders worked collaboratively to redefine the tolerances for IWOF and CCWB in Blackeye beans. Additionally, these changes were recommended to AMS by the specifically named stakeholder organizations identified above to facilitate the current marketing practices.

Comment Review

AMS published a Notice in the Federal Register on September 29, 2020 (85 FR 60957), inviting interested parties to comment on the proposed revisions to the U.S. Standards for Beans. AMS received ten comments in response to the notice. Four comments strongly supported the proposed revisions; one comment was non-committal but recommended applying a similar limit to all beans; one comment posed a question on the cost efficiency for the industry; and two comments opposed the proposed revisions. AMS received two comments that were not germane to the issue. One of the opposing comments stated that the quality of Blackeye beans could be compromised by this change, leading to a possible decrease in the consumption of these beans. The other opposing comment questioned whether these changes would lead to increased fraud. AMS does not foresee a decrease in consumption due to quality concerns or hidden fraud. The demand for plant-based protein has increased the consumption of pulses throughout the United States. Buyers of Blackeye beans can specify a count limit or tighter percentage in their purchase contract. The preponderance of comments suggest AMS should proceed with the revision.

AMS believes these revisions will facilitate inspections, better reflect current marketing practices, be cost efficient, and facilitate purchasing and selling of Blackeye beans. Accordingly, AMS is making no changes to the revised Blackeye bean inspection methods as proposed. The revisions to Blackeye bean inspection are effective upon publication in the Federal Register. The Bean Inspection Handbook will be revised to incorporate the revisions.

Final Action

AMS-FGIS is revising the Blackeye bean inspection criteria by amending the Bean Inspection Handbook to change the sample grade tolerance for IWOF in the Blackeye bean class only, from a count of two or more beans in 1,000 grams, to more than 0.10 percent on the basis of the representative sample as a whole, and remove CCWB as a sample grade factor.

Authority: 7 U.S.C. 1621-1627.

Erin Morris,
Associate Administrator, Agricultural Marketing Service.

[FR Doc. 2021-13631 Filed 6-25-21; 8:45 am]

BILLING CODE P